DEPARTMENT OF AGRICULTURE

Submission for OMB Review; Comment Request

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 8, 2023 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Food Safety and Inspection Service

Title: Permit to Transport Undenatured Inedible Meat Products.

OMB Control Number: 0583-0179.

Summary of Collection: FSIS has been delegated the authority to exercise the functions of the Secretary as provided in the Federal Meat Inspection Act (FMIA) (21 U.S.C. 601, et seq.). This statute mandates that FSIS protect the public by ensuring that meat products are wholesome, not adulterated, and properly labeled and packaged.

Under the regulations at 9 CFR 325.11(e), official establishments are to apply in writing to their District Office to obtain a permit for the transport of undenatured inedible meat products in commerce.

Need and Use of the Information: Official establishments must complete an application that indicates the name and address of the applicant, a description of the type of business operations, and the purpose of making such application. Official establishments will write letters to their District Office that includes the required information.

Description of Respondents: Business or other for-profit.

Number of Respondents: 150.

Frequency of Responses: Reporting: On occasions.

Total Burden Hours: 87.

Food Safety and Inspection Service

Title: Permit to Obtain Specimens of Condemned or Other Inedible Materials from Official Establishments.

OMB Control Number: 0583-0180.

Summary of Collection: FSIS has been delegated the authority to exercise the functions of the Secretary as provided in the Federal Meat Inspection Act (FMIA) (21 U.S.C. 601, et seq.), the Poultry Products Inspection Act (PPIA) (21 U.S.C. 451, et. seq.) and the Egg Products Inspection Act (EPIA) (21 U.S.C. 1031, et seq.). These statutes mandate that FSIS protect the public by ensuring that meat, poultry, and egg products are wholesome, not adulterated, and properly labeled and packaged.

Need and Use of the Information: FSIS requires any person desiring specimens of condemned or other inedible materials, including embryos and specimens of animal parasites, to file a written application on the FSIS Form 6700-2, “Application and Permit to Obtain Specimens from Official Establishments,” as provided in 9 CFR 314.9(a). The applicant must indicate the purpose for the specimens and arrange with and receive permission from the official establishment to obtain the specimens.

Official establishments may release specimens for educational, research or other nonfood purposes under the permit issued by the inspector in charge. The applicant agrees that the collection and handling of the specimens will be at such time and place and in such a manner as not to interfere with inspection or to cause any objectionable condition.

Description of Respondents: Business or other for-profit.

Number of Respondents: 1,642.

Frequency of Responses: Reporting: One time.

Total Burden Hours: 274.

Ruth Brown,
Departmental Information Collection Clearance Officer.

[FR Doc. 2023-02433 Filed 2-3-23; 8:45 am]

BILLING CODE 3410-DM-P